DEPARTMENT OF COMMERCE

National Oceanic and Atmospheric Administration

50 CFR Part 622

[Docket No. 120403249-2492-02]

RIN 0648-XD200

Snapper-Grouper Fishery of the South Atlantic; 2014 Recreational Accountability Measure and Closure for South Atlantic Golden Tilefish

AGENCY: National Marine Fisheries Service (NMFS), National Oceanic and Atmospheric Administration (NOAA), Commerce.

ACTION: Temporary rule; closure.

SUMMARY: NMFS implements accountability measures (AMs) for the recreational sector for golden tilefish in the exclusive economic zone (EEZ) of the South Atlantic for the 2014 fishing year through this temporary rule. Recreational landings from 2013, as estimated by the Science and Research Director (SRD), exceeded the recreational annual catch limit (ACL) for golden tilefish. Furthermore, information from 2014 recreational landings indicates that landings are projected to reach the recreational ACL on June 7, 2014. To account for the 2013 ACL overage and to prevent an ACL overage in 2014, NMFS closes the recreational sector for golden tilefish in the South Atlantic EEZ on June 7, 2014. This closure is necessary to protect the golden tilefish resource.

DATES: This rule is effective 12:01 a.m., local time, June 7, 2014, until 12:01 a.m., local time, January 1, 2015.

FOR FURTHER INFORMATION CONTACT: Catherine Hayslip, telephone: 727-824-5305, email: Catherine.Hayslip@noaa.gov.

SUPPLEMENTARY INFORMATION: The snapper-grouper fishery of the South Atlantic, which includes golden tilefish, is managed under the Fishery Management Plan for the Snapper-Grouper Fishery of the South Atlantic Region (FMP). The FMP was prepared by the South Atlantic Fishery Management Council and is implemented under the authority of the Magnuson-Stevens Fishery Conservation and Management Act (Magnuson-Stevens Act) by regulations at 50 CFR part 622.

In 2013, NMFS published a temporary rule (78 FR 32995, June 3, 2013) to implement the post-season AM to reduce the 2013 fishing season for the recreational golden tilefish component of the snapper-grouper fishery. As a result, the recreational sector for golden tilefish was closed June 3, 2013, until January 1, 2014.

The recreational ACL for golden tilefish is 3,019 fish. In accordance with regulations at 50 CFR 622.193(a)(2), if recreational landings reach or are projected to reach the recreational ACL, the Assistant Administrator, NMFS (AA) will file a notification with the Office of the Federal Register to close the recreational sector for the remainder of the fishing year. If the recreational ACL is exceeded, then during the following fishing year, recreational landings will be monitored for a persistence in increased landings and, if necessary, the AA will file a notification with the Office of the Federal Register to reduce the length of the following fishing season by the amount necessary to ensure landings do not exceed the recreational ACL in the following fishing year. Finalized landings data from the NMFS Southeast Fisheries Science Center indicate that the golden tilefish recreational ACL was exceeded by 1,255 fish in 2013. To account for the 2013 ACL overage and to prevent an ACL overage in 2014, the recreational sector for golden tilefish in the South Atlantic EEZ will be closed on June 7, 2014. Therefore, this temporary rule implements an AM to close the recreational golden tilefish component of the snapper-grouper fishery for the remainder of the 2014 fishing year. As a result, the recreational sector for golden tilefish in the South Atlantic EEZ will be closed effective 12:01 a.m., local time June 7, 2014.

During the closure, the bag and possession limit for golden tilefish in or from the South Atlantic EEZ is zero. The recreational sector for golden tilefish will reopen on January 1, 2015, the beginning of the 2015 recreational fishing season.

Classification

The Regional Administrator, Southeast Region, NMFS, (RA) has determined this temporary rule is necessary for the conservation and management of the South Atlantic golden tilefish component of the South Atlantic snapper-grouper fishery and is consistent with the Magnuson-Stevens Act and other applicable laws.

This action is taken under 50 CFR 622.193(a)(2) and is exempt from review under Executive Order 12866.

These measures are exempt from the procedures of the Regulatory Flexibility Act because the temporary rule is issued without opportunity for prior notice and comment.

Pursuant to 5 U.S.C. 553(b)(B), there is good cause to waive the requirements to provide prior notice and opportunity for public comment on this temporary rule. Such procedures are unnecessary because the AMs established by Regulatory Amendment 12 to the FMP (77 FR 61295, October 9, 2012) and located at 50 CFR 622.193(a)(2) have already been subject to notice and comment and authorize the AA to file a notification with the Office of the Federal Register to close the recreational sector for the remainder of the fishing year if recreational landings reach or are projected to reach the recreational ACL. All that remains is to notify the public of the recreational closure for golden tilefish for the remainder of the 2014 fishing year. Additionally, there is a need to immediately notify the public of the reduced recreational fishing season for golden tilefish for the 2014 fishing year to prevent further golden tilefish recreational harvest and prevent the ACL from being exceeded, which will protect the South Atlantic golden tilefish resource. Also, providing prior notice and opportunity for public comment on this action would be contrary to the public interest because many of those affected by the length of the recreational fishing season, particularly charter vessel and headboat operations, book trips for clients in advance and, therefore need as much time as possible to adjust business plans to account for the reduced recreational fishing season.

For the aforementioned reasons, the AA also finds good cause to waive the 30-day delay in the effectiveness of this action under 5 U.S.C. 553(d)(3).

Authority: 16 U.S.C. 1801 et seq.

Dated: June 2, 2014.
Emily H. Menashes,
Acting Director, Office of Sustainable Fisheries, National Marine Fisheries Service.

[FR Doc. 2014-13070 Filed 6-2-14; 4:15 pm]

BILLING CODE 3510-22-P